DEPARTMENT OF HEALTH AND HUMAN SERVICES

Administration for Children and Families

Proposed Information Collection Activity; Survey on Where Parents Look for and Find Information and How They Use Information When Selecting Child Care (New Collection)

AGENCY: Office of Planning, Research, and Evaluation, Administration for Children and Families, U.S. Department of Health and Human Services.

ACTION: Request for public comments.

SUMMARY: The Administration for Children and Families (ACF) within the U.S. Department of Health and Human Services (HHS) is proposing to collect nationally representative survey data to learn more about where parents look for and find information about Child Care and Early Education (CCEE); how parents assess the people, places, or things that may offer CCEE information; what types of CCEE information parents look for; and how parents use information to select CCEE. The study aims to gather information that may be used by Child Care Lead Agencies to inform their consumer education efforts.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: ACF has contracted with NORC to implement this study, which is part of the Consumer Education and Parental Choice in Early Care and Education (CEPC) project. The study will select a nationally representative sample from NORC's probability-based AmeriSpeak panel. The AmeriSpeak panel provides sample coverage of approximately 97 percent of the U.S. population. It currently contains 48,900 panel members age 13 and over residing in over 40,000 households. U.S. households are randomly selected with a known, non-zero probability from the NORC National Frame, and then recruited by mail, telephone, and by field interviewers face-to-face. NORC's in-person recruitment enhances representativeness for young adults, lower socio-economic households, non-internet households, and other households that are typically hard to reach for statistical surveys of the population.

We will collect information about (a) where parents look for and find information about CCEE; (b) how parents assess the people, places, or things that may offer CCEE information; (c) how easy or hard it is for parents to find CCEE information; (d) the types of CCEE information that parents look for and say are helpful in choosing CCEE; (e) information about the last time parents made a decision about CCEE and what information they tried to learn about at that time; (f) parent's assessments of the CCEE options at the time they made their last CCEE decision; (g) how well parents' CCEE decision met their family's needs; and (h) demographic information about families.

Respondents: AmeriSpeak panelists who indicated that they have a young child in the household will be invited to complete the survey if they are at least 18 years of age. If a household has two or more panel members who reside in a household with a young child, one will be selected at random to complete the survey, with preference given to parents/legal guardians. Selected panelists will be asked questions to confirm eligibility for the survey, including that the household has at least one child under the age of 6 but not in kindergarten.

Annual Burden Estimates
Instrument | Number of respondents (total over request period) | Number of responses per respondent (total over request period) | Avg. burden per response (in hours) | Total/annual burden (in hours)
Parent Survey Questionnaire (Section AE Only) | 600 | 1 | .08 | 48
Parent Survey Questionnaire (Section A—DA) | 1,500 | 1 | .33 | 495

Estimated Total Annual Burden Hours: 543.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Child Care and Development Block Grant (CCDBG) Act of 1990, as amended (42 U.S.C. 9857 et seq.).

Mary B. Jones,
ACF/OPRE Certifying Officer.

[FR Doc. 2023-23910 Filed 10-27-23; 8:45 am]

BILLING CODE 4184-23-P